DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; new information collection; OMB No. 1660-NEW1; FEMA Form 089-7, TSP Investment Justification Template.

SUMMARY: The Federal Emergency Management Agency, as part of its continuing effort to reduce paperwork and respondent burden, invites the general public and other Federal agencies to take this opportunity to comment on a proposed new information collection. In accordance with the Paperwork Reduction Act of 1995, this Notice seeks comments concerning the Trucking Security Grant Program.

DATES: Comments must be submitted on or before November 20, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of www.regulations.gov.

FOR FURTHER INFORMATION CONTACT: Contact Alexander Mrazik, Program Analyst, Grant Programs Directorate, 202-786-9732 for additional information. You may contact the Records Management Branch for copies of the proposed collection of information at facsimile number (202) 646-3347 or e-mail address: FEMA-Information-Collections@dhs.gov.

SUPPLEMENTARY INFORMATION: The Trucking Security Program (TSP) is authorized by the Consolidated Security, Disaster Assistance, and Continuing Appropriations Act, 2009, Public Law 110-329. TSP is an important part of the Administration's larger, coordinated effort to strengthen homeland security preparedness, including the security of America's critical infrastructure. TSP implements objectives addressed in a series of post-9/11 laws, strategy documents, plans, Executive Orders, and Homeland Security Presidential Directives. Of particular significance are the National Preparedness Guidelines and its associated work products, including the National Infrastructure Protection Plan and its transportation sector-specific plans and Executive Order 13416 (Strengthening Surface Transportation Security). The National Preparedness Guidelines are an all-hazards vision regarding the Nation's four core preparedness objectives: prevent, protect against, respond to, and recover from terrorist attacks and catastrophic natural disasters.

Collection of Information

Title: FEMA FY 2009 Preparedness Grants: Trucking Security Program (TSP).

Type of Information Collection: New information collection.

OMB Number: OMB No. 1660-NEW1.

Form Titles and Numbers: FEMA Form 089-7, TSP Investment Justification Template.

Abstract: DHS/FEMA uses the information to evaluate applicants' familiarity with the national preparedness architecture and identify how elements of this architecture have been incorporated into regional/State/local planning, operations, and investments. The TSP Investment Justification Template provides narrative detail on proposed investments. This document must demonstrate how proposed projects address gaps and deficiencies in current programs and capabilities and the ability to provide enhancements consistent with the purpose of the program and guidance provided by FEMA.

Affected Public: Business or other for-profit.

Estimated Total Annual Burden Hours: 125 hours.

Trucking Security Program Burden Estimates

Table A.12—Estimated Annualized Burden Hours and Costs
Type of respondent | Form name/form number | No. of respondents | No. of responses per respondent | Avg. burden per response (in hours) | Total annual burden (in hours) | Avg. hourly wage rate* | Total annual respondent cost
Business or other for-profit | TSP Investment Justification Template, FEMA Form 089-7 | 25 | 1 | 5 | 125 | $26.60 | $3,325.00
Total |  | 25 |  |  | 125 |  | 3,325.00

Estimated Cost: There is no annual reporting recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-22589 Filed 9-18-09; 8:45 am]

BILLING CODE 9111-78-P